DEPARTMENT OF AGRICULTURE

Agricultural Marketing Service

7 CFR Part 980

[Doc. No. AMS-FV-08-0018; FV08-980-1 C]

Vegetable Import Regulations; Modification of Potato Import Regulations; Correction

AGENCY: Agricultural Marketing Service, USDA.

ACTION: Final rule; correction.

SUMMARY: The Agricultural Marketing Service is correcting a final rule that appeared in the Federal Register of December 10, 2009. The rule modified the import regulations for Irish potatoes and made minor administrative changes to the potato, onion, and tomato import regulations to update informational references. This document corrects two Code of Federal Regulation citations in the informational references that were cited incorrectly.

DATES: Effective Date: January 11, 2010.

FOR FURTHER INFORMATION CONTACT: Barry Broadbent or Gary D. Olson, Northwest Marketing Field Office, Marketing Order Administration Branch, Fruit and Vegetable Programs, AMS, USDA, 1220 SW. Third Avenue, Suite 385, Portland, OR 97204; Telephone: (503) 326-2724, Fax: (503) 326-7440, or E-mail: Barry.Broadbent@usda.gov or GaryD.Olson@usda.gov.

SUPPLEMENTARY INFORMATION: In FR Doc. AMS-FV-08-0018; FV08-980-1 FR in the Federal Register of Thursday, December 10, 2009 (74 FR 65390), the following corrections are made:

§ 980.117 [Corrected]

1. On page 65394, in the second column, amendatory instruction 5(c) is revised to read “Amend paragraph (h) by removing the references ‘(7 CFR 2851.3195 through 2851.3209),’ ‘(7 CFR 2851.3955 through 2851.3970),’ and ‘(7 CFR 2851.2830 through 2851.2854)’ and by adding in their places the references ‘(7 CFR 51.3195 through 51.3209),’ ‘(7 CFR 51.3955 through 51.3970),’ and ‘(7 CFR 51.2830 through 51.2854)’, respectively.”

Dated: January 6, 2010.
David R. Shipman,
Acting Administrator, Agricultural Marketing Service.

[FR Doc. 2010-314 Filed 1-8-10; 8:45 am]

BILLING CODE 3410-02-P